DEPARTMENT OF THE INTERIOR

Fish and Wildlife Service

Aquatic Nuisance Species Task Force Risk Assessment and Management Committee Meeting

AGENCY: Fish and Wildlife Service, Interior.

ACTION: Notice of meeting.

SUMMARY: This notice announces a meeting of the Risk Assessment and Management Committee of the Aquatic Nuisance Species Task Force. The meeting topics are identified in the SUPPLEMENTARY INFORMATION.

DATES: The Committee will meet from 8:30 a.m. to 4:30 p.m., Wednesday, November 1, 2000; and from 8:30 a.m. to 12 p.m., Thursday, November 2, 2000.

ADDRESSES: The meeting will be held at the US Geological Survey, Biological Resources Division, Florida Caribbean Science Center, 7920 NW 71st Street, Gainesville, FL; phone (352) 378-8181.

FOR FURTHER INFORMATION CONTACT: Richard Orr, Chair, Risk Assessment and Management Committee, at (202) 208-2616 or by email at richard_orr@os.doi.gov or Sharon Gross, Executive Secretary, Aquatic Nuisance Species Task Force at (703) 358-2308 or by e-mail at: sharon_gross@fws.gov.

SUPPLEMENTARY INFORMATION: Pursuant to section 10(a)(2) of the Federal Advisory Committee Act (5 U.S.C. App. I), this notice announces a meeting of the Aquatic Nuisance Species Task Force Assessment and Management Committee. The Task Force was established by the Nonindigenous Aquatic Nuisance Prevention and Control Act of 1990 (16 U.S.C. 4701-4741). Topics to be addressed at this meeting include: Discussion on the Screening Process, risk analysis and pathway identification components of the Draft National Invasive Species Management Plan; examination of the methodology and outreach used in conducting the Florida Sturgeon Culture Risk Assessment; review of new information on Black Carp obtained since the original risk assessment was completed (1996) to determine if changes to the recommendations are warranted; discussion on the development of a risk assessment of the Asian Swamp Eel; and review of future committee goals and projects.

Minutes of the meeting will be maintained by the Executive Secretary, Aquatic Nuisance Species Task Force, Suite 851, 4401 North Fairfax Drive, Arlington, Virginia 22203-1622; and the Chair of the Ballast Water and Shipping Committee at the Environmental Standards Division, Office of Operations and Environmental Standards, U.S. Coast Guard (G-MSO-4), 2100 Second Street, SW, room 1309, Washington, DC 20593-0001. Minutes for the meetings will be available at these locations for public inspection during regular business hours, Monday through Friday.

Dated: October 13, 2000.
William Knapp,
Acting Co-Chair, Aquatic Nuisance Species Task Force, Acting Assistant Director—Fisheries and Habitat Conservation.

[FR Doc. 00-26839 Filed 10-18-00; 8:45 am]

BILLING CODE 4310-55-M